DEPARTMENT OF LABOR

Employment and Training Administration

[TA-W-61,962K]

Hanesbrands, Inc., Eden Division, Including On-Site Leased Workers From Diversco Integrated Services, Eden, NC; Amended Certification Regarding Eligibility To Apply for Worker Adjustment Assistance and Alternative Trade Adjustment Assistance

In accordance with Section 223 of the Trade Act of 1974, as amended (19 U.S.C. 2273), the Department of Labor issued a Certification of Eligibility To Apply for Worker Adjustment Assistance and Alternative Trade Adjustment Assistance on September 13, 2007, applicable to workers of Hanesbrands, Inc., Eden Division, Eden, North Carolina. The notice was published in the Federal Register on September 27, 2007 (72 FR 54939).

At the request of the State agency, the Department reviewed the certification for workers of the subject firm. The workers are engaged in a variety of support activities related to the firm's production of laminated fabric and fabric components.

New information shows that workers leased from Diversco Integrated Services were employed on-site at the Eden Division, Eden, North Carolina, location of Hanesbrands, Inc.

The Department has determined that these workers were sufficiently under the control of the subject firm to be considered leased workers.

Based on these findings, the Department is amending this certification to include leased workers from Diversco Integrated Services working on-site at the Eden Division, Eden, North Carolina, location of the subject firm.

The intent of the Department's certification is to include all workers employed at Hanesbrands, Inc., Eden Division who were adversely affected by a shift in production of laminated fabric and fabric components to El Salvador, the Dominican Republic and Honduras.

The amended notice applicable to TA-W-61,962K is hereby issued as follows:

“All workers of Hanesbrands, Inc., Eden Division, Eden, North Carolina, including on-site leased workers from Diversco Integrated Services, Eden, North Carolina, who became totally or partially separated from employment on or after August 7, 2006, through September 13, 2009, are eligible to apply for trade adjustment assistance under Section 223 of the Trade Act of 1974, and are also eligible to apply for alternative trade adjustment assistance under Section 246 of the Trade Act of 1974.”

Signed at Washington, DC, this 9th day of December 2008.
Elliott S. Kushner,
Certifying Officer, Division of Trade Adjustment Assistance.

[FR Doc. E8-29932 Filed 12-17-08; 8:45 am]

BILLING CODE 4510-FN-P